DEPARTMENT OF THE INTERIOR

Bureau of Land Management

[UT-910-07-1040-PH-24-1A]

Notice of Utah Resource Advisory Council Meeting

AGENCY: Bureau of Land Management, Department of Interior.

ACTION: Notice of Utah Resource Advisory Council (RAC) Meeting.

SUMMARY: In accordance with the Federal Land Policy and Management Act (FLPMA) and the Federal Advisory Committee Act of 1972 (FACA), the U.S. Department of the Interior, Bureau of Land Management's (BLM) Utah Resource Advisory Council (RAC) will meet as indicated below.

DATES: The Utah Resource Advisory Council (RAC) will meet February 15, 2007, from 8 a.m. until 4:30 p.m.

ADDRESSES: The Utah BLM Resource Advisory Council will meet at the Marriott Hotel, Bryce Conference Room, 101 West 100 North, Provo, Utah.

FOR FURTHER INFORMATION CONTACT: Sherry Foot, Special Programs Coordinator, Utah State Office, Bureau of Land Management, P.O. Box 45155, Salt Lake City, Utah, 84145-0155; phone (801) 539-4195.

SUPPLEMENTARY INFORMATION: The focus for this meeting will be Recreation RACs. A briefing on the Federal Land Recreation Enhancement Act and the interagency agreement for use of Recreation RACs, as well as, data on current fees and how they are used will be presented. A public comment period, where members of the public may address the RAC, is scheduled from 3:45 p.m.-4:15 p.m. Written comments may be sent to the Bureau of Land Management address listed above. All meetings are open to the public; however, transportation, lodging, and meals are the responsibility of the participating public.

Dated: January 9, 2007.
Selma Sierra,
State Director.

[FR Doc. E7-741 Filed 1-18-07; 8:45 am]

BILLING CODE 4310-$$-P